DEPARTMENT OF THE INTERIOR

Fish and Wildlife Service

[FWS-HQ-IA-2014-N036; FXIA16710900000-145-FF09A30000]

Information Collection Request Sent to the Office of Management and Budget (OMB) for Approval; Federal Fish and Wildlife Permit Applications and Reports—Management Authority

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on February 28, 2014. We may not conduct or sponsor and a person is not required to respond to a collection of information unless it displays a currently valid OMB control number. However, under OMB regulations, we may continue to conduct or sponsor this information collection while it is pending at OMB.

DATES: You must submit comments on or before March 31, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0093” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0093.

Title: Federal Fish and Wildlife Permit Applications and Reports—Management Authority, 50 CFR 13, 15, 16, 17, 18, 21, and 23.

Service Form Numbers: 3-200-19 through 3-200-37, 3-200-39 through 3-200-44, 3-200-46 through 3-200-53, 3-200-58, 3-200-61, 3-200-64 through 3-200-66, 3-200-69 to 3-200-70, 3-200-73 through 3-200-76, 3-200-80, and 3-200-85 through 3-200-88.

Type of Request: Revision of a currently approved collection.

Description of Respondents: Individuals; biomedical companies; circuses; zoological parks; botanical gardens; nurseries; museums; universities; antique dealers; exotic pet industry; hunters; taxidermists; commercial importers/exporters of wildlife and plants; freight forwarders/brokers; and State, tribal, local, and Federal governments.

Respondent's Obligation: Required to obtain or retain a benefit.

Frequency of Collection: On occasion.

Estimated Number of Annual Responses: 13,360.

Estimated Completion Time per Response: Varies from 15 minutes to 43½ hours depending on the activity.

Estimated Number of Annual Burden Hours: 9,806.

Estimated Annual Nonhour Burden Cost: $1,018,751 for application fees.

Abstract: This information collection covers permit applications and reports that our Division of Management Authority uses to determine the eligibility of applicants for permits requested in accordance with the criteria in various Federal wildlife conservation laws and international treaties. Service regulations implementing these statutes and treaties are in chapter I, subchapter B of title 50, Code of Federal Regulations (CFR). These regulations stipulate general and specific requirements that when met allow us to issue permits to authorize activities that are otherwise prohibited.

We are not proposing any major changes to the applications and reports currently approved under OMB Control Number 1018-0093. We are proposing a new application: FWS Form 3-200-88 (Musical Instrument (CITES)). The Musical Instrument application will be for multiple border crossings for noncommercial use (including, but not limited to, personal use, performance, display, or competition).

Comments Received and Our Responses

Comments: On December 17, 2013, we published in the Federal Register (78 FR 76313) a notice of our intent to request that OMB approve this information collection. In that notice, we solicited comments for 60 days, ending on February 18, 2014. We received one comment in response to that notice.

The commenter addressed the processing of applications under section 10(c) of the Endangered Species Act and the public comment period under that section. We actively support the elements of section 10(c) and the right of the public to review the merits of applications involving endangered species. We are currently reviewing mechanisms to ensure greater access to this material and ease of the public to supply substantial comments. These comments did not address the information collection requirements, and we did not make any changes to our requirement.

During the comment period for the proposed rule titled “Updates Following the Fifteenth Meeting of the Conference of the Parties to CITES,” which we published in the Federal Register on March 8, 2012 (77 FR 14200), we received one comment pertaining to a form in this collection.

The commenter expressed dissatisfaction with the process for renewing a certificate of ownership for personally owned, live wildlife. The commenter objected to having to complete an entire application when only a few items needed to be updated, and to having to submit his original certificate along with the application for renewal, thus preventing cross-border travel while awaiting issuance of the new certificate. In addition, the commenter noted that having the renewed certificate issued before the end of the period of validity of his existing certificate effectively shortens the period of validity to less than 3 years. He also considered the estimated time of 30 minutes for completion of Form 3-200-64 to be “overly conservative,” and stated that “a more realistic, but still conservative estimate” would be at least 60 minutes.

FWS Form 3-200-64, the application form for issuance of a certificate of ownership for personally owned live wildlife, asks for detailed information regarding the animal to be covered under the certificate. When a certificate holder wishes to renew a certificate of ownership, he or she should complete and submit FWS Form 3-200-52, the application for reissuance or renewal of a permit. This is a simplified application on which the applicant can certify that there have been no changes to the original application or that there have been changes as noted on an attached page. We ask that individuals allow 30 to 60 days for processing of applications, and we do require submission of the original certificate before we will issue a new one. If applying well in advance (more than 60 days before expiration of the certificate), an applicant could submit a copy and continue to use the original certificate, keeping in mind that he or she must return to the United States before the certificate expires. Once travel is completed and the animal has reentered the United States, the original certificate must be returned to the Management Authority. As stated above, we will not issue a new certificate until we have received the original certificate. In some cases it may take longer than 30 minutes to complete FWS Form 3-200-64; however, we believe the average completion time for completing FWS Form 3-200-64 is 30 minutes.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 24, 2014.
Tina A. Campbell,
Chief, Division of Policy and Directives Management, U.S. Fish and Wildlife Service.

[FR Doc. 2014-04339 Filed 2-27-14; 8:45 am]

BILLING CODE 4310-55-P